DEPARTMENT OF TRANSPORTATION

National Highway Traffic Safety Administration

Reports, Forms and Recordkeeping Requirements Agency Information Collection Activity Under OMB Review

AGENCY: National Highway Traffic Safety Administration, U.S. Department of Transportation.

ACTION: Notice; correction.

SUMMARY: This document corrects a date and citation in a Federal Register notice published on Friday, July 25, 2014 (79 FR 43530) that announced an information collection request (OMB Control No. 201106-2127-007) was forwarded to the Office of Management and Budget for review and comment.

FOR FURTHER INFORMATION CONTACT: Ms. Laurie Flaherty, U.S. Department of Transportation, NHTSA, Room W44-322, 1200 New Jersey Avenue SE., Washington, DC 20590. Ms. Flaherty's telephone number is (202) 366-2705 and fax number is (202) 366-7149.

Correction

In the Federal Register of July 25, 2014, in FR Doc. 2014-0039, on page 43530, in the third column, under the Supplementary Information, change the OMB Control Number to read:

“OMB Control Number 2127-0679.”

Jeffrey P. Michael,
Associate Administrator, Research and Program Development.

[FR Doc. 2014-20239 Filed 8-25-14; 8:45 am]

BILLING CODE 4910-59-P